DEPARTMENT OF THE INTERIOR

Office of Natural Resources Revenue

[Docket No. ONRR-2011-0012; DS63644000 DRT000000.CH7000 245D1113RT]

Major Portion Prices and Due Date for Additional Royalty Payments on Gas Produced From Indian Lands in Designated Areas That Are Not Associated With an Index Zone

AGENCY: Office of Natural Resources Revenue (ONRR), Interior.

ACTION: Notice.

SUMMARY: In accordance with regulations governing valuation of gas produced from Indian lands, ONRR is publishing this Notice in the Federal Register of the major portion prices applicable to calendar year 2022 and the date by which a lessee must pay any additional royalties due under major portion pricing.

DATES: The due date to pay additional royalties based on the major portion prices is May 31, 2024.

FOR FURTHER INFORMATION CONTACT: For questions regarding major portion prices, contact Robert Sudar, Market & Spatial Analytics, by telephone at (303) 231-3511 or email to Robert.Sudar@onrr.gov. For questions on reporting information, contact Tonisha Seader, Data Intake, Solutioning, and Coordination, by telephone at (303) 231-3478 or email to Tonisha.Seader@onrr.gov.

SUPPLEMENTARY INFORMATION: Pursuant to 30 CFR 1206.174(a)(4)(ii), ONRR must publish major portion prices for each designated area that is not associated with an index zone for each production month, as well as the due date to submit any additional royalty payments. If a lessee owes additional royalties, it must submit an amended form ONRR-2014, Report of Sales and Royalty Remittance, to ONRR and pay the additional royalties due by the due date. If a lessee fails to timely pay the additional royalties, late payment interest begins to accrue pursuant to 30 CFR 1218.54. The interest will accrue from the due date until ONRR receives payment.

The table below lists major portion prices for designated areas that are not associated with an index zone.

Gas Major Portion Prices ($/MMBtu) for Designated Areas Not Associated With an Index Zone
ONRR-designated areas | Jan 2022 | Feb 2022 | Mar 2022 | Apr 2022
Fort Berthold Reservation | $5.45 | $5.01 | $3.99 | $4.57
Fort Peck Reservation | 6.54 | 8.04 | 4.02 | 5.09
Navajo Allotted Leases in the Navajo Reservation | 5.95 | 4.83 | 4.28 | 5.76
Turtle Mountain Reservation | 5.80 | 4.74 | 4.03 | 3.61
ONRR-designated areas | May 2022 | Jun 2022 | Jul 2022 | Aug 2022
Fort Berthold Reservation | $6.39 | $7.26 | $5.53 | $7.15
Fort Peck Reservation | 6.63 | 7.81 | 5.68 | 7.64
Navajo Allotted Leases in the Navajo Reservation | 6.81 | 8.30 | 6.35 | 8.39
Turtle Mountain Reservation | 5.76 | 7.19 | 5.08 | 7.02
ONRR-designated areas | Sep 2022 | Oct 2022 | Nov 2022 | Dec 2022
Fort Berthold Reservation | $6.23 | $4.43 | $4.17 | $5.50
Fort Peck Reservation | 7.69 | 4.84 | 4.23 | 6.65
Navajo Allotted Leases in the Navajo Reservation | 8.40 | 5.38 | 6.02 | 14.53
Turtle Mountain Reservation | 7.09 | 4.32 | 3.74 | 6.05

For information on how to report additional royalties due to major portion prices, please refer to ONRR's Dear Payor letter, dated December 1, 1999, which is available at https://www.onrr.gov/reporter-letters/991201.pdf.

Authorities: Indian Mineral Leasing Act, 25 U.S.C. 396a-g; Act of March 3, 1909, 25 U.S.C. 396; and the Indian Mineral Development Act of 1982, 25 U.S.C. 2103 et seq.

Howard Cantor,
Director, Office of Natural Resources Revenue.

[FR Doc. 2024-05199 Filed 3-11-24; 8:45 am]

BILLING CODE 4335-30-P